DEPARTMENT OF COMMERCE

International Trade Administration

Draft Harmonized System (HS) Code List of Critical Supply Chains

AGENCY: International Trade Administration, Department of Commerce.

ACTION: Notice of opportunity for public comment.

SUMMARY: “Executive Order on America's Supply Chains”, issued on February 24, 2021, outlines U.S. policy objectives with respect to strengthening the resilience of America's supply chains. The Executive Order directed relevant Secretaries to prepare reports on the supply chains for critical sectors and subsectors within either 100 days or 1 year of the Order. Through this Request for Comment (RFC), the Department of Commerce (Commerce) is requesting input from the public on a draft list of critical goods and materials within four of the supply chains assessed under the Order: public health and biological preparedness, information and communications technology (ICT), energy, and critical minerals. The draft list, defined by 8- and 10-digit tariff lines of the Harmonized Tariff Schedule of the United States (HTSUS), is set out online at https://www.trade.gov/data-visualization/draft-list-critical-supply-chains. The list of critical goods and materials will serve as a tool to facilitate ongoing targeted analysis of trade data and the evaluation of policies to strengthen these supply chains. This RFC is a part of the government's ongoing work to identify risks, address vulnerabilities, and develop a strategy to promote American supply chains resiliency in accordance with the Order.

DATES: To ensure consideration, written comments must be submitted on or before November 3, 2022.

ADDRESSES: Written comments may be submitted in response to this document by comment through https://www.regulations.gov for Docket ID ITA-2022-0010.

FOR FURTHER INFORMATION CONTACT: Please direct questions regarding this notice to Tobias Reynolds, International Economist, at (202) 482-6374 or SupplyChainsHS@trade.gov, with the subject line “Notice and Request for Comment”. Please direct media inquiries to ITA's Office of Public Affairs, publicaffairs@trade.gov or (202) 482-3809.

SUPPLEMENTARY INFORMATION:

I. Background

Executive Order 14017 of February 24, 2021, “Executive Order on America's Supply Chains” (hereafter “Executive Order” or “Order”) (86 FR 11849; February 24, 2021), outlines U.S. policy objectives with respect to strengthening the resilience of America's supply chains. The Executive Order directed various agencies to submit supply chain assessments, including a review of “the critical goods and materials, as defined by section 6(b) of this order, underlying the supply chain in question.” Relevant reports were released in June 2021 and February 2022.

Section 6(b) of the Order defines critical goods and materials as “goods and raw materials currently defined under statute or regulation as `critical' materials, technologies, or infrastructure.” For the purposes of better analyzing trade data and policies, Commerce has identified HTSUS codes that match to critical goods and materials in four of these supply chains, drawing upon the expertise of industry analysts. Each product is identified as either an input, capital good, or final good. The draft list of HTSUS codes, defined at the 8 and 10-digit level, is set out online at https://www.trade.gov/data-visualization/draft-list-critical-supply-chains.

II. Objective of This RFC

This RFC offers an opportunity for all interested parties to provide relevant input and recommendations for consideration with respect to the draft list of critical goods and materials. Commerce is also interested in how products are used within a supply chain.

III. Request for Comments

Please submit written comments on this draft list on or before November 3, 2022 to facilitate consideration. Commerce is requesting comments addressing the make-up of the draft list, including any recommended product additions or subtractions. For any product noted, please include:

• The 8- or 10-digit HTSUS code(s) for the product. The U.S. International Trade Commission's HTS Online Reference Tool (https://hts.usitc.gov/) is a useful tool for helping to determine the U.S. tariff classification of a product.

• Product description (e.g., physical characteristics, function, application, principal or end use within the critical sector, etc.)

• What is the relevant supply chain sector

• What is the relevant supply chain subsector (if any)

IV. Submission Instructions

Commenters should include the name of the person or organization filing the comment. All personal identifying information (for example, phone number and email) voluntarily submitted in any attachments by the commenter will be publicly accessible unless marked as Business Confidential Information (BCI). Instructions on business confidential submissions can be found below.

Commerce strongly prefers comments submitted using the public comment submission form posted on https://www.trade.gov/data-visualization/draft-list-critical-supply-chains and in the “Supporting & Related Material” section on https://www.regulations.gov in Docket ID ITA-2022-0010. Click on the top tab titled “View More Documents” of the docket to find the “Supporting & Related Material” section. In order to facilitate preparation of comments, a facsimile of the form is attached as an annex to this notice.

If you do not use the form, Commerce prefers submissions made in Microsoft Word (.doc) or searchable Adobe Acrobat (.pdf). If you use an application other than those two, please indicate the name of the application in the `comment' field. If you attach a document, it is sufficient to type “see attached” in the “comment” field.

Please do not attach separate cover letters to electronic submissions; rather, include any information that might appear in a cover letter in the comments themselves. Similarly, to the extent possible, please include any exhibits, annexes, or other attachments in the same file as the comment itself, rather than submitting them as separate files.

For any documents submitted electronically containing Business Confidential Information (BCI), the file name of the business confidential version should end with the characters “BC”. Any page containing BCI must be clearly marked “BUSINESS CONFIDENTIAL” on the top of that page and the submission should clearly indicate, via brackets, highlighting, or other means, the specific information that is business confidential. Filers of submissions containing BCI also must submit a public version of their submissions. The file name of the public version should end with the character “P”. The “BC” and “P” should follow the rest of the file name. If these procedures are not sufficient to protect BCI or otherwise protect business interests, please contact Tobias Reynolds, International Economist, at (202) 482-6374 or SupplyChainsHS@trade.gov to discuss whether alternative arrangements are possible.

Commerce will post submissions in the docket for public inspection, except BCI. You can view submissions on the https://www.regulations.gov by entering Docket ID ITA-2022-0010 in the search field on the home page.

Jessica Huang,
International Economist, Office of Trade Negotiations and Analysis.

OMB Control No.: 0625-0143

Expiration Date: 01-31-2024

Public Comment Submission Form

Please note: If you wish to recommend the addition or removal of multiple products at once, please attach a copy of this form for each product in your submission.

1. Submitter Information

a. Full Organization Legal Name:

b. Submitter First Name:

c. Submitter Last Name:

d. Submitter City:

e. Submitter State:

f. Submitter Phone Number (optional, submitter determines BCl or Public):

g. Submitter Email (optional, submitter determines BCl or Public):

2. If applicable, please provide contact information of third-party representative

a. Third Party Firm/Association Name:

b. Third Party First Name:

c. Third Party Last Name:

d. Third Party City:

e. Third Party State:

f. Third Party Phone Number (optional, can be submitted as CBI):

g. Third Party Email (optional, can be submitted as CBI):

3. 8- or 10-digit HTSUS item number- Use numerical characters only with no special characters (Example: 12345678). The U.S. International Trade Commission's HTS Online Reference Tool (https://hts.usitc.gov/) is a useful tool for helping to determine the U.S. tariff classification of your product.

4. Product Description (e.g., product characteristics, function, application, principal or end use within the critical sector, etc.)

5. What is the relevant supply chain sector

6. Provide relevant industrial economic subsector (if any)

Commerce is particularly interested in how products are used within a supply chain.

Please refer back to the Federal Register notice associated with Docket ID ITA-2022-0010 on https://www.regulations.gov for additional submission information.

A Federal agency may not conduct or sponsor, and a person is not required to respond to, nor shall a person be subject to a penalty for failure to comply with an information collection subject to the requirements of the Paperwork Reduction Act of 1995 unless the information collection has a currently valid OMB Control Number. The approved OMB Control Number for this information collection is 0625-0143. Without this approval, we could not conduct this information collection. Public reporting for this information collection is estimated to be approximately 30 minutes per response, including the time for reviewing instructions, searching existing data sources, gathering and maintaining the data needed, and completing and reviewing the information collection. All responses to this information collection are voluntary. Send comments regarding this burden estimate or any other aspect of this information collection, including suggestions for reducing this burden to the International Trade Administration, Attn: Tobias Reynolds at SupplyChainsHS@trade.gov.

[FR Doc. 2022-21418 Filed 10-3-22; 8:45 am]

BILLING CODE 3510-DR-P